ENVIRONMENTAL PROTECTION AGENCY

[EPA-HQ-ORD-2015-0528; FRL-9936-32-ORD]

Board of Scientific Counselors Safe and Sustainable Water Resources Subcommittee; Notification of Public Teleconference Meeting and Public Comment

AGENCY: Environmental Protection Agency (EPA).

ACTION: Notification of public teleconference meeting and public comment.

SUMMARY: Pursuant to the Federal Advisory Committee Act, Public Law 92-463, the U.S. Environmental Protection Agency, Office of Research and Development (ORD), gives notice of a public teleconference meeting of the Board of Scientific Counselors (BOSC) Safe and Sustainable Water Resources Subcommittee.

DATES: The teleconference meeting will be held on Friday, November 13, 2015, from 12:00 p.m. to 2:00 p.m., Eastern Time. The teleconference may adjourn early if all business is finished or may adjourn late if additional time is needed. Any member of the public interested in receiving a draft agenda, attending the teleconference, or making a presentation during the teleconference may contact Cindy Roberts, Designated Federal Officer, via any of the contact methods listed in the FOR FURTHER INFORMATION CONTACT section below. Requests will be accepted up to one business day before the meeting.

ADDRESSES: Participation in the meeting will be by teleconference only; meeting rooms will not be used. Members of the public may obtain the call-in number and access code for the call from Cindy Roberts via any of the contact methods listed in the FOR FURTHER INFORMATION CONTACT section below.

FOR FURTHER INFORMATION CONTACT: Questions or correspondence concerning the teleconference meeting should be directed to Cindy Roberts, Designated Federal Officer, Environmental Protection Agency, by mail at 1200 Pennsylvania Avenue NW., (MC 8104 R), Washington, DC 20460; by telephone at 202-564-1999; or via email at roberts.cindy@epa.gov.

SUPPLEMENTARY INFORMATION:

General Information: The teleconference is open to the public. Any member of the public interested in receiving a draft agenda, attending the teleconference, or making a presentation during the teleconference may contact Cindy Roberts via any of the contact methods listed in the FOR FURTHER INFORMATION CONTACT section above. Teleconference deliberations will focus on draft report findings and recommendations from an August 2015 meeting. Documents from the August meeting are available for viewing and downloading at: http://www2.epa.gov/bosc/safe-and-sustainable-water-resources-bosc-subcommittee. Proposed agenda items for the teleconference include, but are not limited to, the following: presentation and discussion of the subcommittee's draft responses to the charge questions and approval of the final draft letter report prior to its submission to the BOSC Executive Committee.

Oral Statements: In general, each individual or groups making remarks during the public comment period will be limited to five (5) minutes. To accommodate the number of people who want to address the BOSC Safe and Sustainable Water Resources Subcommittee, only one representative of a particular community, organization, or group will be allowed to speak.

Written Statements: Written comments for the meeting will be accepted up to one business day before the meeting, and will be included in the materials distributed to the BOSC Safe and Sustainable Water Resources Subcommittee prior to the teleconference. Written comments should be sent to Cindy Roberts, Environmental Protection Agency, via email at roberts.cindy@epa.gov or by mail to 1200 Pennsylvania Avenue NW., (MC 8104 R), Washington, DC 20460; or submitted through regulations.gov, Docket ID No. EPA-HQ-ORD-2015-0467.

Information about Services for Individuals with Disabilities: For information about access or services for individuals with disabilities, please contact Cindy Roberts at 202-564-1999 or via email at roberts.cindy@epa.gov. To request special accommodations for a disability, please contact Cindy Roberts at least ten days prior to the teleconference to give EPA sufficient time to process your request.

Dated: October 22, 2015.
Fred S. Hauchman,
Director, Office of Science Policy.

[FR Doc. 2015-27468 Filed 10-27-15; 8:45 am]

BILLING CODE 6560-50-P